DEPARTMENT OF COMMERCE

International Trade Administration

[Application No. 10-5A001]

Export Trade Certificate of Review

ACTION: Notice of Application for an Amended Export Trade Certificate of Review by Alaska Longline Cod Commission, Application No. 10-5A001.

SUMMARY: The Office of Trade and Economic Analysis (“OTEA”) of the International Trade Administration, Department of Commerce, has received an application for an amended Export Trade Certificate of Review (“Certificate”). This notice summarizes the proposed amendment and requests comments relevant to whether the amended Certificate should be issued.

FOR FURTHER INFORMATION CONTACT: Joseph Flynn, Director, Office of Trade and Economic Analysis, International Trade Administration, by telephone at (202) 482-5131 (this is not a toll-free number) or email at etca@trade.gov.

SUPPLEMENTARY INFORMATION: Title III of the Export Trading Company Act of 1982 (15 U.S.C. 4001-21) (“the Act”) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(a), which requires the Secretary of Commerce to publish a summary of the application in the Federal Register, identifying the applicant and each member and summarizing the proposed export conduct.

Request for Public Comments

Interested parties may submit written comments relevant to the determination whether an amended Certificate should be issued. If the comments include any privileged or confidential business information, it must be clearly marked and a nonconfidential version of the comments (identified as such) should be included. Any comments not marked as privileged or confidential business information will be deemed to be nonconfidential.

An original and five (5) copies, plus two (2) copies of the nonconfidential version, should be submitted no later than 20 days after the date of this notice to: Office of Trade and Economic Analysis, International Trade Administration, U.S. Department of Commerce, Room 21028, Washington, DC 20230; and to email at etca@trade.gov.

Information submitted by any person is exempt from disclosure under the Freedom of Information Act (5 U.S.C. 552). However, nonconfidential versions of the comments will be made available to the applicant if necessary for determining whether or not to issue the amended Certificate. Comments should refer to this application as “Export Trade Certificate of Review, application number 10-5A001.”

Summary of the Application

Applicant: Alaska Longline Cod Commission, c/o Mundt MacGregor L.L.P., 271 Wyatt Way NE, Suite 106, Bainbridge Island, WA 98110.

Contact: Duncan R. McIntosh, Attorney, dmcintosh@mundtmac.com.

Application No.: 10-5A001.

Date Deemed Submitted: July 28, 2021.

Proposed Amendment: Alaska Longline Cod Commission seeks to amend its Certificate as follows:

1. Add the following companies as new Members of the Certificate within the meaning of section 325.2(l) of the Regulations (15 CFR 325.2(l)):

• Aleutian Longline, LLC, Seattle, WA;

• Bristol Wave Seafoods, LLC, Seattle, WA;

• Coastal Alaska Premier Seafoods, LLC, Anchorage, AK;

• Gulf Prowler, LLC, Juneau, AK;

• Kodiak Leader Fisheries LLC, Lynden, WA; and

• Starfish Reverse, LLC, Seattle, WA.

2. Change the address for the following entities:

• Beauty Bay Washington, LLC, changes address from Edmonds, WA to Bothell, WA;

• Tatoosh Seafoods, LLC, changes address from Edmonds, WA to Kingston, WA.

3. Remove the following Members of the Certificate:

• Prowler Fisheries LLC, Seattle, WA;

• Blue North Fisheries, Inc., Seattle, WA;

• Blue North Trading Company, LLC, Seattle, WA;

• Clipper Group, Ltd., Seattle, WA;

• Clipper Seafoods, Ltd., Seattle, WA;

• Liberator Fisheries LLC, Seattle, WA; and

• Siberian Sea Fisheries LLC, Seattle, WA.

4. Correct the names of the following Members:

• Bristol Leader Fisheries LLC replaces Bristol Leader Seafoods LLC;

• Bering Leader Fisheries LLC replaces Bering Leader Seafoods LLC; and

• Northern Leader Fisheries LLC replaces Northern Leader Seafoods LLC.

Alaska Longline Cod Commission's proposed amendment of its Export Trade Certificate of Review would result in the following Membership list:

1. Akulurak LLC, Seattle, WA;

2. Alaskan Leader Fisheries LLC, Lynden, WA;

3. Alaskan Leader Seafoods LLC, Lynden, WA;

4. Alaskan Leader Vessel LLC, Lynden, WA;

5. Aleutian Longline, LLC, Seattle, WA;

6. Aleutian Spray Fisheries, Inc., Seattle, WA;

7. Beauty Bay Washington, LLC, Bothell, WA;

8. Bering Leader Fisheries LLC, Lynden, WA;

9. Bristol Leader Fisheries LLC, Lynden, WA;

10. Bristol Wave Seafoods, LLC, Seattle, WA;

11. Coastal Alaska Premier Seafoods, LLC, Anchorage, AK;

12. Coastal Villages Longline LLC, Anchorage, AK;

13. Deep Sea Fisheries, Inc., Everett, WA;

14. Gulf Mist, Inc., Everett, WA;

15. Gulf Prowler, LLC, Juneau, AK;

16. Kodiak Leader Fisheries LLC, Lynden, WA;

17. Northern Leader Fisheries LLC, Lynden, WA;

18. Romanzof Fishing Company, L.L.C., Seattle, WA;

19. Shelford's Boat, Ltd., Mill Creek, WA;

20. Siu Alaska Corporation, Anchorage, AK;

21. Starfish Reverse, LLC, Seattle, WA;

22. Tatoosh Seafoods, LLC, Kingston, WA.

Dated: August 6, 2021.
Joseph Flynn,
Director, Office of Trade and Economic Analysis, International Trade Administration, U.S. Department of Commerce.

[FR Doc. 2021-17146 Filed 8-10-21; 8:45 am]

BILLING CODE 3510-DR-P